DEPARTMENT OF COMMERCE

Census Bureau

Proposed Information Collection; Comment Request; Public Employment and Payroll Forms

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before October 27, 2014.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Paul W. Villena, Acting Chief, Employment and Benefit Statistics Branch, Governments Division, U.S. Census Bureau, Washington, DC 20233-6800 (301-763-7286 or Paul.W.Villena@census.gov).

SUPPLEMENTARY INFORMATION:

I. Abstract

The Census Bureau plans to request clearance for the forms necessary to conduct the public employment and payroll program, which consists of an annual collection of information and a quinquennial collection in a census environment in years ending in “2” or “7”. During the upcoming three years, we intend to conduct the 2015 Annual Survey of Public Employment & Payroll, the 2016 Annual Survey of Public Employment & Payroll, and the 2017 Census of Governments: Employment.

Under Title 13, Section 161, of the United States Code, the Secretary of Commerce is authorized to conduct the public employment and payroll program, which collects and disseminates data by function for full-time and part-time employees, payroll, and number of part-time hours worked. The number and content of the data items collected are the same in the annual and census cycles.

The burden hours we will request are based on the expected 2015 and 2016 Annual Survey of Public Employment & Payroll mail out of 16,432 forms for each survey year, and the expected 2017 Census of Governments: Employment mail-out of 99,726 forms. In addition, burden hours include data received via data arrangements, which are explained in further detail within the method of collection section.

The state and local government statistics produced cover national, state, and local aggregates on various functions with comparative detail for individual governments for the pay period that includes March 12. The public employment and payroll program provides the only comprehensive count of employees and payrolls of state and local governments.

The Census Bureau provides this employment data to the Bureau of Economic Analysis for constructing the functional payrolls in the public sector of the Gross Domestic Product; payroll being the single largest component of current operations. The public employment and payroll program has increasingly been used as the base for reimbursable programs conducted by the Census Bureau for other Federal agencies such as: (1) The government portion of the Medical Expenditure Panel Survey commissioned by the Agency for Healthcare Research and Quality to provide timely, comprehensive information about health care use and costs in the United States, and (2) the Criminal Justice Expenditure and Employment Survey, sponsored by the Bureau of Justice Statistics (BJS), which provides criminal justice expenditure and employment data on spending and personnel levels.

Statistics are produced as data files in electronic formats. The program has disseminated comprehensive and comparable governmental statistics since 1940.

The users of the public employment and payroll program data include Federal agencies, state and local governments and related organizations, public interest groups, and many business, market, and private research organizations.

II. Method of Collection

An estimated 21,000 state agencies, county governments, consolidated city-county governments, independent cities, towns, townships, special district governments, and public school systems designated for the 2015 or 2016 Annual Survey of Public Employment & Payroll will be sent an appropriate form or their data will be collected through a data sharing arrangement between the Census Bureau and the governmental unit. Approximately 104,000 governmental units designated for the 2017 Census of Governments: Employment will either be sent an appropriate form or their data will be collected through a data sharing arrangement between the Census Bureau and the governmental unit.

The Census Bureau developed central collection arrangements with state and large local government officials to collect the data from their dependent agencies and report to us as a central respondent. Based on the 2012 Census of Governments: Employment, these arrangements eliminate the need for a mail canvass of approximately 3,777 state agencies and 616 school systems. The arrangements reduce burden by greatly reducing the number of people who have to complete a form as the data are acquired from a centralized source instead of from multiple sources. Currently, the Census Bureau has central collection arrangements with forty-six states and four local school district governments. The Census Bureau continues to expand the conversion of paper submissions into electronic formats, for both individual units and central collection units.

All form types can be completed on the Internet. For the 2013 Annual Survey of Public Employment & Payroll, approximately 73.1 percent of the governmental units that completed the questionnaire used the Census Bureau's Web site.

III. Data

OMB Control Number: 0607-0452.

Form Number(s): E-1, E-2, E-3, E-4, E-5, E-6, E-7, E-8, E-9, E-10.

Type of Review: Regular submission.

Affected Public: State and local governments.

Estimated Number of Respondents: 44,197.

Estimated Time per Response: The average for all forms is 50 minutes.

Estimated Total Annual Burden Hours: 36,831.

Estimated Total Annual Cost to Public: $0.

Respondent's Obligation: Voluntary.

Legal Authority: Title 13 U.S.C. Section 161.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 22, 2014.
Glenna Mickelson,
Management Analyst, Office of the Chief Information Officer.

[FR Doc. 2014-20426 Filed 8-27-14; 8:45 am]

BILLING CODE 3510-07-P